DEPARTMENT OF ENERGY

Federal Energy Regulatory Commission

[Docket No. RP03-611-000]

SCG Pipeline, Inc.; Notice of Tariff Filing

September 24, 2003.

Take notice that on September 22, 2003, SCG Pipeline, Inc. (SCG) tendered for filing as part of its FERC Gas Tariff, Original Volume No. 1, the tariff sheets attached to Appendix A, with an effective date of November 1, 2003.

SCG states that the filing is being made in compliance with ordering paragraph A of the Commission's July 29, 2003 “Order on Pro Forma Tariff” (Tariff Order) 104 FERC ¶ 61,159.

SCG states that these actual tariff sheets reflect modifications to SCG's originally filed Pro Forma FERC Gas Tariff to bring it into compliance with the Tariff Order, current NAESB standards, all the requirements in Order Nos. 637, 637-A, and 637-B and subsequent orders, and any other tariff regulations currently in effect. Additional tariff modifications have been made as indicated in SCG's filing.

SCG states that a copy of this filing has been served upon the official service list in this proceeding and upon its customers.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 6, 2003.

Magalie R. Salas,
Secretary.

[FR Doc. 03-24892 Filed 10-1-03; 8:45 am]

BILLING CODE 6717-01-P